DEPARTMENT OF COMMERCE

International Trade Administration

[A-549-853]

Large Top Mount Combination Refrigerator-Freezers From Thailand: Postponement of Preliminary Determination in the Less-Than-Fair-Value Investigation

AGENCY: Enforcement and Compliance, International Trade Administration, Department of Commerce.

DATES: Applicable November 18, 2024.

FOR FURTHER INFORMATION CONTACT: Benito Ballesteros at (202) 482-7425 AD/CVD Operations, Office IX Enforcement and Compliance, International Trade Administration, U.S. Department of Commerce, 1401 Constitution Avenue NW, Washington, DC 20230.

SUPPLEMENTARY INFORMATION:

Background

On July 9, 2024, the U.S. Department of Commerce (Commerce) initiated a less-than-fair-value (LTFV) investigation of imports of large top mount combination refrigerator-freezers (refrigerators) from Thailand.¹ On July 22, 2024, Commerce tolled certain deadlines in this administrative proceeding by seven days.² Currently, the preliminary determination is due no later than December 3, 2024.

¹ See Large Top Mount Combination Refrigerator-Freezers from Thailand: Initiation of Less-Than-Fair-Value Investigation, 89 FR 57860 (July 16, 2024) (Initiation Notice).

² See Memorandum, “Tolling of Deadlines for Antidumping and Countervailing Duty Proceedings,” dated July 22, 2024.

Postponement of Preliminary Determination

Section 733(b)(1)(A) of the Tariff Act of 1930, as amended (the Act), requires Commerce to issue the preliminary determination in a LTFV investigation within 140 days after the date on which Commerce initiated the investigation. However, section 733(c)(1)(A) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 1, 2024, Electrolux Consumer Products, Inc. (the petitioner) submitted a timely request that Commerce postpone the preliminary determination in the LTFV investigation.³ The petitioner stated that it requests postponement, “so that {Commerce} will have sufficient time to collect and analyze information necessary for calculating accurate dumping margins. An extension of the deadline for {Commerce's} preliminary {determination} is necessary and appropriate here given the numerous extensions of time that have been requested by the respondent. An extension of the deadline for the preliminary determination will allow {the p}etitioner sufficient time to comment on these responses and will allow {Commerce} adequate time to issue supplemental questionnaires and to conduct a thorough analysis in this investigation.” ⁴

³ See Petitioner's Letter, “Request to Extend Preliminary Determination,” dated November 1, 2024.

⁴ Id.

For the reasons stated above and because there are no compelling reasons to deny the request, Commerce, in accordance with section 733(c)(1)(A) of the Act, is postponing the deadline for the preliminary determination by 50 days.⁵ As a result, Commerce will issue its preliminary determination no later than January 22, 2025. In accordance with section 735(a)(1) of the Act and 19 CFR 351.210(b)(1), the deadline for the final determination of this investigation will continue to be 75 days after the date of the preliminary determination, unless postponed at a later date.

⁵ Commerce is extending the time period for the preliminary determination to 190 days after the date of initiation (i.e., January 15, 2025). However, because Commerce tolled certain deadlines in this investigation by seven days, the deadline is now January 22, 2025.

This notice is issued and published pursuant to section 733(c)(2) of the Act and 19 CFR 351.205(f)(1).

Dated: November 8, 2024.
Abdelali Elouaradia,
Deputy Assistant Secretary for Enforcement and Compliance.

[FR Doc. 2024-26771 Filed 11-15-24; 8:45 am]

BILLING CODE 3510-DS-P